DEPARTMENT OF ENERGY

Federal Energy Regulatory Commission

[Project No. 2801-027]

Littleville Power Company, Inc.; Notice of Application Accepted for Filing, Soliciting Motions To Intervene and Protests, Ready for Environmental Analysis, and Soliciting Comments, Recommendations, Terms and Conditions, and Fishway Prescriptions

October 30, 2008.

Take notice that the following hydroelectric application has been filed with the Commission and is available for public inspection.

a. Type of Application: Subsequent License.

b. Project No.: P-2801-027.

c. Date filed: October 31, 2007.

d. Applicant: Littleville Power Company, Inc.

e. Name of Project: Glendale Hydroelectric Project.

f. Location: On the Housatonic River in the Town of Stockbridge, Berkshire County. The project does not affect federal lands.

g. Filed Pursuant to: Federal Power Act 16 U.S.C. 791(a)-825(r).

h. Applicant Contact: Kevin M. Webb, Environmental Affairs Coordinator, Littleville Power Company, Inc., One Tech Drive, Suite 220, Andover, MA 01810, (978) 681-1900 ext. 809, kevin.webb@northamerica.enel.it

i. FERC Contact: Kristen Murphy, (202) 502-6236 or kristen.murphy@ferc.gov.

j. Deadline for filing motions to intervene and protests, comments, recommendations, terms and conditions, and fishway prescriptions is, December 30, 2008, 60 days from the issuance of this notice; reply comments are due, February 12, 2009, 105 days from the issuance date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene and protests may be filed electronically via the Internet in lieu of paper. The Commission strongly encourages electronic filings. See 18 CFR 385.2001(a)(1)(iii) and the instructions on the Commission's Web site (http://www.ferc.gov) under the “eFiling” link.

k. This application has been accepted for filing and is now is ready for environmental analysis.

l. As licensed, the existing Glendale Project consists of: (1) A 250-foot-long, 30-foot-high concrete gravity dam with a 182-foot-long spillway; (2) a 23-acre reservoir; (3) two manually-operated 10 by 10-foot intake gates; (4) a 1,500-foot-long, 40-foot-wide intake canal; (5) a forebay structure and a 250-foot-long, 12-foot-diameter steel penstock; (6) a powerhouse with four turbine generating units with a combined installed capacity of 1,140-kilowatts; (7) a 300-foot-long tailrace channel; (8) a step-up transformer and an 83-foot-long, 13.8 kilovolt transmission line; and (9) appurtenant facilities. The Housatonic River reach that is bypassed by the project (measured from the gatehouse to the tailrace channel) is about 2,500 feet long.

The proposed project would include a new 165-kW turbine unit in the waste gate slot located at the gatehouse adjacent to the project dam. This unit would operate off of a proposed minimum bypassed reach flow of 90 cubic feet per second (cfs) or inflow. In addition, the proposed project would provide additional recreational access through formal canoe portage facilities and parking.

The applicant estimates that the total average annual generation, with the proposed additional turbine, would be 5,800 megawatt-hours. The applicant proposes to continue to operate the project in run-of-river mode with an increase in minimum flow in the bypass reach from 10 cfs to 90 cfs or inflow, whichever is less. The purpose of the project is to produce electrical power for sale.

m. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/docs-filing/esubscription.asp to be notified via e-mail of new filings and issuances related to this or other pending projects. For assistance, contact FERC Online Support.

n. Anyone may submit comments, a protest, or a motion to intervene in accordance with the requirements of Rules of Practice and Procedure, 18 CFR 385.210,.211,.214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “COMMENTS,” “REPLY COMMENTS,” “RECOMMENDATIONS,” “TERMS AND CONDITIONS,” or “ FISHWAY PRESCRIPTIONS;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

o. Procedural Schedule: The application will be processed according to the following revised Hydro Licensing Schedule. Revisions to the schedule may be made as appropriate.

Milestone | Target Date
Commission issues EA | March 2009.
Comments on EA | April 2009.

p. Final amendments to the application must be filed with the Commission no later than 30 days from the issuance date of this notice.

Kimberly D. Bose,
Secretary.

[FR Doc. E8-26450 Filed 11-5-08; 8:45 am]

BILLING CODE 6717-01-P